DEPARTMENT OF DEFENSE

Office of the Secretary

[Docket ID: DoD-2013-OS-0196]

Notice of Availability (NOA) for Strategic Network Optimization (SNO) Environmental Assessment Finding of No Significant Impact (FONSI)

AGENCY: Defense Logistics Agency, DoD.

ACTION: Notice of Availability (NOA) for Strategic Network Optimization (SNO) Environmental Assessment (EA) Finding of No Significant Impact (FONSI).

SUMMARY: On September 20, 2013, Defense Logistics Agency (DLA) published a NOA in the Federal Register (78 FR 57845) announcing the publication of the Strategic Network Optimization EA. The EA was available for a 30-day public comment period which ended October 19, 2013. The EA was prepared as required under the National Environmental Policy Act (NEPA) (1969). In addition, the EA complied with DLA Regulation (DLAR) 1000.22. No comments were received during the comment period. This FONSI documents the decision of DLA to select the Global Distribution Network alternative to implement the SNO Program for the Department of Defense (DoD). DLA has determined that the proposed action was not a major federal action significantly affecting the quality of the human environment within the context of NEPA and that no significant impacts on the human environment are associated with this decision.

FOR FURTHER INFORMATION CONTACT: Ann Engelberger at (703) 767-0705 during normal business hours Monday through Friday, from 8:00 a.m. to 4:30 p.m. (EST) or by email: Ann.Engelberger@dla.mil.

SUPPLEMENTARY INFORMATION: The SNO Program originated in June 2009 at DOD to: (1) Improve the distribution process, (2) improve surface and air delivery performance, (3) stage inventories in forward locations in anticipation of future demand, (4) optimize the distribution network and (5) generate cost savings/avoidances. In January 2012, the DoD's Joint Logistics Board (JLB) approved a course of action for Phase I to implement the SNO Program. The development of the SNO Program adheres to the intent of the JLB decision.

Purpose and Need for Action: The purpose of the SNO Program is to improve DLA's distribution network, including supply, distribution, disposition and transportation of materials for warfighter support. The SNO Program is needed to reduce operating costs and maintain operational readiness.

Proposed Action and Alternatives: Under the Proposed Action, DLA would optimize the DoD distribution network with a reconfigured transportation network as the critical factor in reducing costs and maintaining or improving service levels to end customer.

DLA would expand the existing Forward Flow Network from two main distribution hubs (DLA Distribution San Joaquin, California and DLA Distribution Susquehanna, Pennsylvania) to three hubs by adding DLA Distribution Red River, Texas. DLA Distribution Red River is an existing DoD facility, so no new construction is required. DLA would also optimize the DoD Reverse Flow Network (disposing of excess property) by reducing the number of current customer service locations, co-locating with existing DLA distribution centers, instituting process changes and personnel restructuring.

As an alternative to the reconfigured Global Distribution Network, DLA considered taking no action. Under the no action alternative, DLA would continue the current storage, distribution, disposition and transportation networks. The no action alternative would not satisfy the project's purpose and need; however, the alternative was included in the environmental analysis to provide a baseline for comparison with the proposed action and was analyzed in accordance with Council on Environmental Quality regulations for implementing NEPA.

Potential Environmental Impacts: Potential environmental impacts of the reconfigured Global Distribution Network alternative have been assessed and compared to the impacts of the no action alternative with following impacts:

• No significant impacts to transportation resulting from the reduction in travel time from distribution hub to installation.

• Any slight increase in activity from the change in the type of distribution at the San Joaquin and Susquehanna sites would not alter existing emissions from mobile sources, resulting in no significant impacts.

• An increase in emissions from mobile sources at DLA Distribution Red River, with more daily truck trips in and out of the facility. Emissions from this increase would however be localized and would not be expected to impact national or regional emission levels or the attainment status of Bowie County, resulting in no significant impacts to air quality.

• A beneficial impact to socioeconomics from a boost in primary, secondary and induced employment at DLA Distribution Red River associated with the potential increase in transportation requirements at this facility.

• No significant impacts to land use from the increased activity at DLA Distribution Red River.

Determination: DLA has determined that implementation of the reconfigured Global Distribution Network will not have a significant effect on the human environment. Human environment was interpreted comprehensively to include the natural and physical environment and the relationship of people with that environment. Specifically, no highly uncertain or controversial impacts, unique or unknown risk or cumulatively significant effects were identified. Implementation of the reconfigured Global Distribution Network will not violate any federal, state or local laws. Based on the results of the analyses performed during the preparation of the programmatic environmental assessment, David Rodriguez, Director, DLA Installation Support, concludes the selection of the reconfigured Global Distribution Network to implement the SNO Program does not constitute a major federal action significantly affecting the quality of the human environment within the context of NEPA. Therefore, an environmental impact statement for the proposed action is not required.

Dated: October 30, 2013.
Aaron Siegel,
Alternate OSD Federal Register Liaison Officer, Department of Defense.

[FR Doc. 2013-26329 Filed 11-1-13; 8:45 am]

BILLING CODE 5001-06-P